DEPARTMENT OF STATE

[Delegation of Authority 257]

Delegation by the Assistant Secretary of State for Educational and Cultural Affairs to the Principal Deputy Assistant Secretary for Educational and Cultural Affairs, and to the Deputy Assistant Secretary for Professional and Cultural Exchanges, of Immunity From Judicial Seizure Authorities

By virtue of the authority vested in me as the Assistant Secretary of State for Educational and Cultural Affairs by law, including by Delegation of Authority No. 236-3 (August 28, 2000), and to the extent permitted by law, I hereby delegate to the Principal Deputy Assistant Secretary for Educational and Cultural Affairs, and to the Deputy Assistant Secretary for Professional and Cultural Exchanges, the functions in Pub. L. 89-259 (79 Stat. 985) (22 U.S.C. 2459), providing for immunity from judicial seizure for cultural objects imported into the United States for temporary exhibition.

Notwithstanding any other provision of this delegation, the Assistant Secretary of State for Educational and Cultural Affairs retains, and may at any time exercise, any function or authority delegated herein.

Any reference in this delegation of authority to any statute or delegation of authority shall be deemed to be a reference to such statute or delegation of authority as amended from time to time.

This delegation shall be published in the Federal Register.

Dated: April 15, 2003.
Patricia S. Harrison,
Assistant Secretary of State for Educational and Cultural Affairs, Department of State.

[FR Doc. 03-9938 Filed 4-21-03; 8:45 am]

BILLING CODE 4710-05-P